DEPARTMENT OF ENERGY

Federal Energy Regulatory Commission

[Project No. 14722-000]

Mill and Main Hydroelectric Project; Notice of Preliminary Permit Application Accepted for Filing and Soliciting Comments, Motions To Intervene, and Competing Applications

On October 16, 2015, AS Clock Tower Owner, LLC, filed an application for a preliminary permit, pursuant to section 4(f) of the Federal Power Act (FPA), proposing to study the feasibility of the Mill and Main Hydroelectric Project (Mill and Main Project) to be located on the Assabet River, near Maynard, Middlesex County, Massachusetts. The sole purpose of a preliminary permit, if issued, is to grant the permit holder priority to file a license application during the permit term. A preliminary permit does not authorize the permit holder to perform any land-disturbing activities or otherwise enter upon lands or waters owned by others without the owners' express permission.

The proposed project would consist of: (1) The existing 9.5-foot-high, 170-foot-long granite block Ben Smith dam; (2) the existing 18.75-acre Ben Smith dam impoundment with a storage capacity of 475 acre-feet and a normal water surface elevation of 177 feet above mean sea level (msl); (3) an existing 1,600-foot-long power canal leading to an existing gatehouse at the upstream end of the existing 18.3-acre Mill Pond impoundment with a storage capacity of 130 acre-feet and a normal water surface elevation of 176 feet msl; (4) the existing masonry Mill Pond dam; (5) an existing 7-foot-diameter, 49-foot-long penstock; (6) an existing masonry powerhouse containing one turbine-generator unit with an installed capacity of 290-kilowatts; (7) two 300-foot-long masonry tailraces; (8) an existing 480-volt transmission line and a 13.8 kV step-up transformer to interconnect the project with the Clock Tower Place; and (9) appurtenant facilities. The estimated annual generation of the Mill and Main Project would be about 1,241 megawatt-hours. The existing Ben Smith and Mill dams and appurtenant works are owned by AS Clock Tower Owner, LLC.

Applicant Contact: Mr. Kurt W. Saraceno, AS Clock Tower Owner, LLC, c/o Saracen Properties. 41 Seyon Street, Suite 200, Waltham, MA 02453; phone: (781) 250-8000 x2710.

FERC Contact: Patrick Crile; phone: (202) 502-8042 or email: Patrick.Crile@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14722-000.

More information about this project, including a copy of the application, can be viewed or printed on the “eLibrary” link of Commission's Web site at http://www.ferc.gov/docs-filing/elibrary.asp. Enter the docket number (P-14722) in the docket number field to access the document. For assistance, contact FERC Online Support.

Dated: January 6, 2016.
Nathaniel J. Davis, Sr.,
Deputy Secretary.

[FR Doc. 2016-00401 Filed 1-11-16; 8:45 am]

BILLING CODE 6717-01-P